DEPARTMENT OF COMMERCE

National Oceanic and Atmospheric Administration

RIN 0648-XA772

Marine Mammals; File No. 16685

AGENCY: National Marine Fisheries Service (NMFS), National Oceanic and Atmospheric Administration (NOAA), Commerce.

ACTION: Notice; issuance of permit.

SUMMARY: Notice is hereby given that a permit has been issued to Thomas A. Jefferson, Ph.D., Clymene Enterprises, 5495 Camino Playa Malaga, San Diego, CA 92124 to conduct research on nine cetacean species off the California coast.

ADDRESSES: The permit and related documents are available for review upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Laura Morse or Carrie Hubard, (301) 427-8401.

SUPPLEMENTARY INFORMATION: On October 24, 2011, notice was published in the Federal Register (76 FR 65697) that a request for a permit to conduct research on nine cetacean species off of the California coast had been submitted by the above-named applicant. The requested permit has been issued under the authority of the Marine Mammal Protection Act of 1972, as amended (16 U.S.C. 1361 et seq.), and the regulations governing the taking and importing of marine mammals (50 CFR part 216).

The permit authorizes photo-identification, behavioral studies and biopsy sampling of bottlenose (Tursiops truncatus), Risso's (Grampus griseus), short-beaked common (Delphinus delphis), long-beaked common (D. capensis), Pacific white-sided (Lagenorhynchus obliquidens), and northern right whale dolphins (Lissodelphis borealis); killer whale (Orcinus orca, excluding Southern resident stock); Dall's porpoise (Phocoenoides dalli) and harbor porpoise (Phocoena phocoena) along the California coast. The permit expires on January 1, 2017.

In compliance with the National Environmental Policy Act of 1969 (42 U.S.C. 4321 et seq.), a final determination has been made that the activity proposed is categorically excluded from the requirement to prepare an environmental assessment or environmental impact statement.

Dated: December 22, 2011.
Tammy C. Adams,
Acting Chief, Permits and Conservation Division, Office of Protected Resources, National Marine Fisheries Service.

[FR Doc. 2011-33441 Filed 12-28-11; 8:45 am]

BILLING CODE 3510-22-P